DEPARTMENT OF THE INTERIOR

Fish and Wildlife Service

Emergency Exemption: Issuance

Endangered Species

On December 27, 2001, the U.S. Fish and Wildlife Service (Service) issued a permit (PRT-051290) to Conservation International/IUCN Turtle Survival Alliance, Aiken, South Carolina, to import five river terrapin (Batagur baska) from Kadoorie Farms and Botanic Gardens, Tai Po, New Territories, Hong Kong. The 30-day comment period required by Section 10(c) of the Endangered Species Act was waived. The Service determined that an emergency affecting the health and life of these terrapins existed, and that no reasonable alternative was available to the applicant for several reasons.

The terrapins were part of a seizure by the Agriculture, Fisheries and Conservation Department in Hong Kong, which took place on December 11, 2001. The seizure which included 12 different Asian species totaling 10,000 live turtles, were concealed in four 20-foot containers. The confiscated turtles were smuggled to Macau by air from Singapore, and then shipped to China. The shipment was destined for the illegal food trade. The river terrapin was the only species listed as Appendix I under the Convention on International Trade in Endangered Species (CITES) and classified as endangered under the U.S. Endangered Species Act (ESA). The balance of the shipment was comprised of three species that were listed as Appendix II under CITES, and the remaining eight species that were not CITES or ESA listed.

Because the exact origin of these specimens was not known, and based on information showing an increasing market demand for turtles in South China that poses a severe threat to wild turtle populations in Asian, returning these specimens to their natal country of origin and/or their possible release back into the wild was not an option. The terrapins were shipped in very poor conditions which also put their immediate health in question. The IUCN Turtle Survival Alliance is planning to establish viable assurance colonies of this species to allow the opportunity for later repatriation of the species to protected areas within the range states, once these areas become established.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: January 11, 2002.
Timothy J. Van Norman,
Chief, Branch of Permits (International), Division of Management Authority.

[FR Doc. 02-1877 Filed 1-24-02; 8:45 am]

BILLING CODE 4310-55-P